DEPARTMENT OF AGRICULTURE

Forest Service

Lassen County Resource Advisory Committee

AGENCY: Forest Service, Agriculture (USDA).

ACTION: Notice of meeting.

SUMMARY: The Lassen County Resource Advisory Committee (RAC) will hold a virtual meeting. The committee is authorized under the Secure Rural Schools and Community Self-Determination Act (the Act) and operates in compliance with the Federal Advisory Committee Act. The purpose of the committee is to improve collaborative relationships and to provide advice and recommendations to the Forest Service concerning projects and funding consistent with the Act. RAC information can be found at the following website: https://www.fs.usda.gov/main/lassen/workingtogether/advisorycommittees.

DATES: The meeting will be held on September 29, 2020, starting at 10:00 a.m.

All RAC meetings are subject to cancellation. For status of meeting prior to attendance, please contact the person listed under For Further Information Contact.

ADDRESSES: The meeting will be held with virtual attendance only. For virtual meeting information, please contact the person listed under For Further Information Contact.

Written comments may be submitted as described under Supplementary Information. All comments, including names and addresses when provided, are placed in the record and are available for public inspection and copying. The public may inspect comments received at Lassen National Forest Superivsor's Office. Please call ahead to facilitate entry into the building.

FOR FURTHER INFORMATION CONTACT: Mark Gaston, RAC Coordinator, by phone at 505-252-6604 or via email at mark.gaston2@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Approve minutes of last meeting;

2. Old business;

3. Approve the use of the existing Operating Guidelines and Evaluation Criteria;

4. Discuss membership outreach;

5. Committee Assignments;

6. Disuss Title II Funding for 2017, 2018, and 2019;

7. Discuss project proposals;

8. Call for project proposals;

9. Public comment period; and

10. Go over agenda for next meeting and set meeting dates.

The meeting is open to the public. The agenda will include time for people to make oral statements of three minutes or less. Individuals wishing to make an oral statement should request in writing by September 22, 2020, to be scheduled on the agenda. Anyone who would like to bring related matters to the attention of the committee may file written statements with the committee staff before or after the meeting. Written comments and requests for time to make oral comments must be sent to Mark Gaston, RAC Coordinator, Lassen National Forest Supervisor's Office, 2550 Riverside Drive, Susanville, California 96130; by email to mark.gaston2@usda.gov, or via facsimile to 530-252-6428.

Meeting Accommodations: If you are a person requiring reasonable accommodation, please make requests in advance for (we are doing this by phone so can't sign), assistive listening devices, or other reasonable accommodation. Please contact the person listed in the section titled For Further Information Contact. All reasonable accommodation requests are managed on a case-by-case basis.

Dated: September 1, 2020.
Cikena Reid,
USDA Committee Management Officer.

[FR Doc. 2020-19738 Filed 9-4-20; 8:45 am]

BILLING CODE 3411-15-P